DEPARTMENT OF ENERGY

Federal Energy Regulatory Commission

[Docket No. RP00-245-000]

East Tennessee Natural Gas Company; Notice of Proposed Changes in FERC Gas Tariff

April 14, 2000.

Take notice that on April 12, 2000, East Tennessee Natural Gas Company (East Tennessee) tendered for filing as part of its FERC Gas Tariff, Second Revised Volume No. 1, the tariff sheets listed in Appendix A to the filing, to be effective May 1, 2000:

East Tennessee states that, on March 14, 2000, East Tennessee was acquired from El Paso Energy (El Paso) and became a wholly owned subsidiary of Duke Energy Corporation (Duke). East Tennessee states that, pursuant to the Stock Purchase Agreement, El Paso entered into a Transition Agreement to ensure the smooth operation of the East Tennessee pipeline system for a period of up to nine months from the closing date (transition period). Among other things, the Transition Agreement requires El Paso to perform certain capacity management activities on behalf of East Tennessee for the daily operations of the system during the transition period.

East Tennessee states that, as part of El Paso's transition to interactive Internet communications in compliance with the Commission's Order No. 587-I, El Paso has undertaken a major rewrite of its pipelines' critical computer system functions (the “PASSKEY” system). El Paso has advised Duke that it intends to complete the move to the Internet by May 1, 2000. East Tennessee states that, because El Paso will be performing certain capacity management activities for East Tennessee utilizing the PASSKEY System during the transition period, East Tennessee is modifying its existing tariff and pro forma service agreements to reflect the system and tariff changes made by the El Paso pipelines.

East Tennessee states that the purpose of this filing is to obtain Commission approval for the tariff modifications in East Tennessee's tariff mirroring the El Paso pipelines' proposals in order to implement the PASSKEY System rewrite and the Service Upgrades by May 1, 2000 for the duration of the transition period and to update East Tennessee's mailing addresses and contact information as a result of the acquisition by Duke. At the end of the transition period, East Tennessee will file revised tariff sheets to reflect the end of the transition period and the implementation of the LINKr System for East Tennessee, and will make any additional changes necessary to conform the operations of the East Tennessee pipeline system with those of the other Duke pipelines.

East Tennessee states that copies of its filing have been mailed to all affected customers and interested state commissions.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-9865 Filed 4-19-00; 8:45 am]

BILLING CODE 6717-01-M